DEPARTMENT OF EDUCATION

Financial Value Transparency and Gainful Employment: List of Approved Classification of Instructional Program (CIP) Codes for Qualifying Graduate Programs

AGENCY: Office of Postsecondary Education, Department of Education.

ACTION: Notice.

SUMMARY: The Secretary announces the list of applicable CIP codes for qualifying graduate programs that have an extended earnings measurement period under the Financial Value Transparency and Gainful Employment regulations.

DATES: The list of CIP codes published in this notice apply to the first three award years that the Secretary calculates debt-to-earnings (D/E) rates and the earnings premium (EP) measure under subpart Q of 34 CFR part 668. This period is established under the regulatory definition of Qualifying graduate program at § 668.2(b) as the “initial period,” and includes the 2023-2024, 2024-2025, and 2025-2026 award years.

FOR FURTHER INFORMATION CONTACT: Joseph Massman, U.S. Department of Education. Email: joe.massman@ed.gov.

If you are deaf, hard of hearing, or have a speech disability and wish to access telecommunications relay services, please dial 7-1-1.

SUPPLEMENTARY INFORMATION: On October 10, 2023, the U.S. Department of Education (Department) published final regulations on Financial Value Transparency (FVT) and Gainful Employment (GE), which become effective July 1, 2024 (88 FR 70004). These regulations, in part, (1) Establish a transparency framework to provide information about financial costs and benefits to students at nearly all academic programs at postsecondary institutions that are eligible to participate in the student assistance programs authorized under title IV of the Higher Education Act of 1965, as amended (HEA); and (2) Establish an eligibility framework for postsecondary educational programs designed to prepare students for gainful employment in a recognized occupation. Both the transparency and accountability frameworks rely upon D/E rates and an EP measure, as established under §§ 668.403 and 668.404 respectively, to assess debt and earnings outcomes for postsecondary program graduates.

The calculation of these metrics is based, in part, on the earnings of a cohort of graduates measured several years after program completion. The cohort period, as defined under § 668.2(b), is the set of award years used to identify a group of students who completed a program and whose debt and earnings outcomes are used to calculate the D/E rates and EP measure. The specific years included in the cohort period used in calculating D/E and EP metrics for a given program depend, in part, upon whether the program is a qualifying graduate program, as separately defined under § 668.2(b) Qualifying graduate program.

In developing the regulations, the Department recognized that certain graduate programs, mostly concentrated in medical and clinical fields, are associated with an initial period of depressed graduate earnings while graduates complete a required period of postgraduate clinical or residency work necessary to obtain a professional licensure, after which graduates realize significant earnings growth. For purposes of calculating the D/E rates and EP measure, the Department therefore extends the earnings measurement period for such qualifying graduate programs, when compared to other postsecondary programs. As an example, a two-year cohort period for most programs would be the third and fourth award years prior to the year of the most recent earnings data used in the calculation. In contrast, the two-year cohort period for a qualifying graduate program would be the sixth and seventh award years prior to the year of the earnings data, meaning that income is measured three years farther out after graduation for completers of such programs. These cohorts are used to measure earnings for both the standard and transitional reporting options under the FVT/GE regulations.

To be treated as a qualifying graduate program, a program must meet three specific and rigorous criteria. First, the program must be identified under the CIP code list below as being potentially eligible to be considered a qualified graduate program. Second, the program must be one whose students must complete a ”required postgraduation training program” to obtain licensure, which is a supervised training program that (1) requires the student to hold a degree in one of the qualifying fields and (2) must be completed before the student may be licensed by a State and board certified for professional practice or service. Third, the institution must attest that at least half of the program's graduates obtain licensure in a State where the postgraduation training requirements apply, and that, if necessary for licensure, the graduate program is accredited by an accrediting agency that meets State requirements. For the first criterion, paragraph (1)(i)(A) of the regulatory definition of a qualifying graduate program at § 668.2(b) provides a generalized list of occupations for qualifying graduate programs, which will apply to the first three award years the Department calculates the D/E rates and EP measure. The qualifying fields for this initial period include medicine, osteopathy, dentistry, clinical psychology, marriage and family counseling, clinical social work, and clinical counseling.

The National Center for Education Statistics provides a taxonomy of instructional program classifications and descriptions, most recently updated in 2020, known as CIP codes. For purposes of the FVT and GE regulations, specific programs offered by institutions are classified using a six-digit CIP code.

Consistent with this regulatory definition, the Secretary identifies the following graduate programs under their respective CIP codes as being potentially eligible to be considered a qualified graduate program, conditional on meeting all other required criteria:

Medicine, Osteopathy, Dentistry

• 14.0501: Biomedical/Medical Engineering

• 26.0101: Biology/Biological Services, General

• 26.0102: Biomedical Sciences, General

• 26.0202: Biochemistry

• 26.0204: Molecular Biology

• 26.0205: Molecular Biochemistry

• 26.0207: Structural Biology

• 26.0208: Photobiology

• 26.0209: Radiation Biology/Radiobiology

• 26.0210: Biochemistry/Biophysics and Molecular Biology

• 26.0299: Biochemistry, Biophysics and Molecular Biology, Other

• 26.0401: Cell/Cellular Biology and Histology

• 26.0403: Anatomy

• 26.0404: Developmental Biology and Embryology

• 26.0406: Cell/Cellular and Molecular Biology

• 26.0407: Cell Biology and Anatomy

• 26.0499: Cell/Cellular Biology and Anatomical Sciences, Other

• 26.0502: Microbiology, General

• 26.0503: Medical Microbiology and Bacteriology

• 26.0504: Virology

• 26.0505: Parasitology

• 26.0506: Mycology

• 26.0507: Immunology

• 26.0508: Microbiology and Immunology

• 26.0599: Microbiological Sciences and Immunology, Other

• 26.0801: Genetics, General

• 26.0802: Molecular Genetics

• 26.0806: Human/Medical Genetics

• 26.0807: Genome Sciences/Genomics

• 26.0899: Genetics, Other

• 26.0901: Physiology, General

• 26.0902: Molecular Physiology

• 26.0903: Cell Physiology

• 26.0904: Endocrinology

• 26.0905: Reproductive Biology

• 26.0907: Cardiovascular Science

• 26.0908: Exercise Physiology

• 26.0909: Vision Science/Physiological Optics

• 26.0910: Pathology/Experimental Pathology

• 26.0911: Oncology and Cancer Biology

• 26.0912: Aerospace Physiology and Medicine

• 26.0999: Physiology, Pathology, and Related Sciences, Other

• 26.1001: Pharmacology

• 26.1002: Molecular Pharmacology

• 26.1003: Neuropharmacology

• 26.1004: Toxicology

• 26.1005: Molecular Toxicology

• 26.1006: Environmental Toxicology

• 26.1007: Pharmacology and Toxicology

• 26.1099: Pharmacology and Toxicology, Other

• 26.1101: Biometry/Biometrics

• 26.1102: Biostatistics

• 26.1103: Bioinformatics

• 26.1199: Biomathematics and Bioinformatics, Other

• 26.1201: Biotechnology

• 26.1306: Population Biology

• 26.1309: Epidemiology

• 26.1399: Ecology, Evolution, Systematics and Population Biology, Other

• 26.1401: Molecular Medicine

• 26.1501: Neuroscience

• 26.1502: Neuroanatomy

• 26.1503: Neurobiology and Neurophysiology

• 26.1504: Neurobiology and Behavior

• 26.1599: Neurobiology and Neurosciences, Other

• 26.9999: Biological and Biomedical Sciences, Other

• 30.1001: Biopsychology

• 30.1101: Gerontology

• 30.1901: Nutrition Sciences

• 51.0000: Health Services/Allied Health/Health Sciences, General

• 51.0001: Health and Wellness, General

• 51.0101: Chiropractic (DC)

• 51.0201: Communication Disorders, General

• 51.0202: Audiology/Audiologist and Hearing Services

• 51.0203: Speech-Language Pathology/Pathologist

• 51.0204: Audiology/Audiologist and Speech-Language Pathology/Pathologist

• 51.0299: Communication Disorders Sciences and Services, Other

• 51.0401: Dentistry (DDS, DMD)

• 51.0501: Dental Clinical Sciences, General (MS, Ph.D.)

• 51.0502: Advanced General Dentistry (Cert, MS, Ph.D.)

• 51.0503: Oral Biology and Oral Pathology (MS, Ph.D.)

• 51.0504: Dental Public Health and Education (Cert., MS/MPH, Ph.D./DPH)

• 51.0505: Dental Materials (MS, Ph.D.)

• 51.0506: Endodontics/Endodontology (Cert., MS, Ph.D.)

• 51.0507: Oral/Maxillofacial Surgery (Cert., MS, Ph.D.)

• 51.0508: Orthodontics/Orthodontology (Cert., MS, Ph.D.)

• 51.0509: Pediatric Dentistry/Pedodontics (Cert., MS, Ph.D.)

• 51.0510: Periodontics/Periodontology (Cert., MS, Ph.D.)

• 51.0511: Prosthodontics/Prosthodontology (Cert., MS, Ph.D.)

• 51.0599: Advanced/Graduate Dentistry and Oral Sciences, Other

• 51.0912: Physician Assistant

• 51.1201: Medicine (MD)

• 51.1401: Medical Scientist (MS, Ph.D.)

• 51.1701: Optometry (OD)

• 51.1901: Osteopathic Medicine/Osteopathy (DO)

• 51.2001: Pharmacy (PharmD [USA], PharmD or BS/BPharm [Canada])

• 51.2002: Pharmacy Administration and Pharmacy Policy and Regulatory Affairs (MS, Ph.D.)

• 51.2004: Medicinal and Pharmaceutical Chemistry (MS, Ph.D.)

• 51.2008: Clinical, Hospital, and Managed Care Pharmacy (MS, Ph.D.)

• 51.2010: Pharmaceutical Sciences

• 51.2099: Pharmacy, Pharmaceutical Sciences, and Administration, Other

• 51.2101: Podiatric Medicine/Podiatry (DPM)

• 51.2314: Rehabilitation Science

• 51.2399: Rehabilitation and Therapeutic Professions, Other

• 51.3101: Dietetics/Dietician (RD)

• 51.3199: Dietetics and Clinical Nutrition Services, Other

• 51.9999: Health Professions and Related Clinical Sciences, Other

Clinical Psychology, Marriage and Family Counseling, Clinical Social Work, Clinical Counseling

• 13.1101: Counselor Education/School Counseling and Guidance Services

• 19.0701: Human Development and Family Studies, General

• 19.0704: Family Systems

• 19.0707: Family and Community Services

• 19.0710: Developmental Services Worker

• 19.0799: Human Development, Family Studies, and Related Services, Other

• 30.1001: Biopsychology

• 30.1701: Behavioral Sciences

• 30.2501: Cognitive Science

• 42.0101: Psychology, General

• 42.2701: Cognitive Psychology and Psycholinguistics

• 42.2702: Comparative Psychology

• 42.2703: Developmental and Child Psychology

• 42.2704: Experimental Psychology

• 42.2705: Personality Psychology

• 42.2706: Physiological Psychology/Psychobiology

• 42.2707: Social Psychology

• 42.2708: Psychometrics and Quantitative Psychology

• 42.2709: Psychopharmacology

• 42.2799: Research and Experimental Psychology, Other

• 42.2801: Clinical Psychology

• 42.2802: Community Psychology

• 42.2803: Counseling Psychology

• 42.2804: Industrial and Organizational Psychology

• 42.2805: School Psychology

• 42.2806: Educational Psychology

• 42.2807: Clinical Child Psychology

• 42.2808: Environmental Psychology

• 42.2809: Geropsychology

• 42.2810: Health/Medical Psychology

• 42.2811: Family Psychology

• 42.2812: Forensic Psychology

• 42.2813: Applied Psychology

• 42.2814: Applied Behavior Analysis

• 42.2899: Clinical, Counseling and Applied Psychology, Other

• 42.9999: Psychology, Other

• 44.0701: Social Work

• 44.0702: Youth Services/Administration

• 44.0799: Social Work, Other

• 51.1501: Substance Abuse/Addiction Counseling

• 51.1503: Clinical/Medical Social Work

• 51.1504: Community Health Services/Liaison/Counseling

• 51.1505: Marriage and Family Therapy/Counseling

• 51.1506: Clinical Pastoral Counseling/Patient Counseling

• 51.1507: Psychoanalysis and Psychotherapy

• 51.1508: Mental Health Counseling/Counselor

• 51.1509: Genetic Counseling/Counselor

• 51.1599: Mental and Social Health Sciences and Allied Professions, Other

As further described in the regulatory definition of a qualifying graduate program, the above list of eligible professions applies only to the initial three award years the Department calculates the D/E and EP metrics. Following this initial period, and every three award years thereafter, the Secretary will publish an updated list of CIP codes that contains qualifying graduate programs, identifying fields that lead to a graduate degree for which graduates must complete postgraduate training programs averaging at least three years to complete and for which the Secretary determines that a majority of programs demonstrate outlier earnings growth.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at this site.

You may also access documents of the Department published in the Federal Register by using the article search feature at www.federalregister.gov. Specifically, through the advanced search feature at this site, you can limit your search to documents published by the Department.

Program Authority: 20 U.S.C. 1087 et seq.

Nasser Paydar,
Assistant Secretary for the Office of Postsecondary Education.

[FR Doc. 2024-14217 Filed 6-27-24; 8:45 am]

BILLING CODE 4000-01-P